DEPARTMENT OF COMMERCE

National Oceanic and Atmospheric Administration

RIN 0648-XX79

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Red Crab Committee in August, 2010 to consider actions affecting New England fisheries in the exclusive economic zone (EEZ). Recommendations from this joint group will be brought to the full Council for formal consideration and action, if appropriate.

DATES: This meeting will be held on Thursday, August 12, 2010 at 9 a.m.

ADDRESSES: This meeting will be held at the Four Points Sheraton, 407 Squire Road, Revere, MA 02151; telephone: (781) 284-7200; fax: (781) 289-3176.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committee will review the status of the red crab fishery and recent developments in processing, marketing, and cooperative research. The Committee will also review Draft Amendment 3 to the Red Crab Fishery Management Plan, which is intended to: bring the Red Crab Fishery Management Plan into compliance with Magnuson-Stevens Act requirements for annual catch limits and accountability measures; establish specifications for fishing years 2011-13; consider changes to the management system that respond to industry suggestions for increasing efficiency in the fishery: replace the Target total allowable catch (TAC) and Days-at-Sea management system with a hard TAC; eliminate trip limits; and replace the blanket prohibition on landing more than one tote of females per trip with a procedure that would allow the harvest of female crab contingent upon Scientific and Statistical Committee (SSC) and Council approval of specifications that include a female allowable biological catch (ABC) and annual catch limit (ACL).

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: July 22, 2010.
Tracey L. Thompson,
Acting Director, Office of Sustainable Fisheries, National Marine Fisheries Service.

[FR Doc. 2010-18327 Filed 7-26-10; 8:45 am]

BILLING CODE 3510-22-S